DEPARTMENT OF LABOR

Employment and Training Administration

[TA-W-72,953]

Matthews International Corporation, Bronze Division, Kingwood, WV; Notice of Affirmative Determination Regarding Application for Reconsideration

By application dated July 15, 2010, by a state workforce official requested administrative reconsideration of the negative determination regarding workers' eligibility to apply for Trade Adjustment Assistance (TAA) applicable to workers and former workers of Matthews International Corporation, Bronze Division, Kingwood, West Virginia (subject firm). The negative determination was issued on June 1, 2010. The Department's Notice of Determination was published in the Federal Register on June 16, 2010 (75 FR 34177). The workers are engaged in activities related to the production of bronze burial markers and memorial products.

In the request for reconsideration, the petitioner supplied new information regarding an alleged shift in production to Mexico and increased imports by the subject firm's customers of like or directly competitive articles.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 28th day of January, 2011.
Del Min Amy Chen,
Certifying Officer, Office of Trade Adjustment Assistance.

[FR Doc. 2011-2965 Filed 2-9-11; 8:45 am]

BILLING CODE 4510-FN-P